DEPARTMENT OF COMMERCE

National Oceanic and Atmospheric Administration

15 CFR Part 922

[Docket No. 000510129-1157-03]

RIN 0648-A018

Florida Keys National Marine Sanctuary Regulations; Announcement of Effective Date in Florida State Waters

AGENCY: Office of National Marine Sanctuaries (ONMS), National Ocean Service (NOS), National Oceanic and Atmospheric Administration (NOAA), Department of Commerce (DOC).

ACTION: Final rule; announcement of effective date.

SUMMARY: This notice announces that the Revised Designation Document and the final regulations that were published in the Federal Register on January 17, 2001 (66 FR 4267), and state fishing regulations adopted by the Florida Fish and Wildlife Conservation Commission for the Tortugas Ecological Reserve, will become effective in Florida State waters on July 1, 2001. The Revised Designation Document expands the boundary of the Sanctuary and the regulations implement the expansion, establish and implement the Tortugas Ecological Reserve, and make other revisions to the Sanctuary regulations.

DATES: The final regulations published at 66 FR 4267 (January 17, 2001) will become effective on July 1, 2001.

FOR FURTHER INFORMATION CONTACT: Mr. Billy Causey, (305) 743-2437.

SUPPLEMENTARY INFORMATION: This document announces the effective date in Florida State waters for the Revised Designation Document expanding the boundary of the Florida Keys National Marine Sanctuary (FKNMS or Sanctuary) and the final regulations that implement the boundary expansion, establish and implement the Tortugas Ecological Reserve, and that make certain revisions to the Sanctuary regulations. The expansion of the Sanctuary boundary encompasses an area of the State of Florida waters and Federal waters at the far western end of the Florida Keys, and the submerged lands thereunder. The Federal Register document publishing those regulations also contained the Revised Designation Document and summarized the final supplemental management plan for the Sanctuary. The Revised Designation Document sets forth the geographic area included within the Sanctuary, the characteristics of the area that give it conservation, recreational, ecological, historical, research, educational, or esthetic value, and the type of activities subject to regulation. The supplemental management plan details the goals and objectives, management responsibilities, research activities, interpretive and educational programs, and enforcement activities of the area. The Revised Designation Document and the final regulations became effective in Federal waters on March 8, 2001 and notice of the effective date was published in the Federal Register on March 23, 2001 (66 FR 16120).

On March 6, 2001, the Governor of the State of Florida certified to the Secretary of Commerce that the revised designation, the supplemental management plan, and the regulations implementing the Tortugas Ecological Reserve were unacceptable unless and until approved by the Governor and Cabinet, acting as the Board of Trustees of the Internal Improvement Trust Fund of the State of Florida. On April 24, 2001, the Board of Trustees voted unanimously to approve the boundary expansion, the supplemental management plan and the final regulations implementing the Tortugas Ecological Reserve in state waters. On May 14, 2001, the State of Florida notified the Secretary of Commerce of the Board's approval. The revised designation, supplemental management plan, and the revised regulations, and the fishing regulations approved by the Florida Fish and Wildlife Conservation Commission implementing the Reserve in state waters will take effect on July 1, 2001.

This Federal Register document announces that July 1, 2001 is the effective date in state waters of the Revised Designation Document, the final regulations and state fishing regulations.

Authority: 16 U.S.C. Section 1431 et seq.

(Federal Domestic Assistance Catalog Number 11.429 Marine Sanctuary Program)

Dated: June 19, 2001.
Ted I. Lillestolen,
Deputy Assistant Administrator for Ocean Services and Coastal Zone Management.

[FR Doc. 01-15806 Filed 6-20-01; 10:06 am]

BILLING CODE 3510-08-U